DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 15, 2000.

Interested persons are invited to submit written comments regarding the subject matter of the investigations to the Director, Division of Trade Adjustment Assistance, at the address shown below, not later than May 15, 2000.

The petitions filed in this case are available for inspection at the Office of the Director, Division of Trade Adjustment Assistance, Employment and Training Administration, U.S. Department of Labor, 200 Constitution Ave., NW., Washington, DC 20210.

Signed at Washington, DC this 10th day of April 2000.
Grant D. Beale,
Program Manager, Division of Trade Adjustment Assistance.

Appendix
[Petitions instituted on 04/10/2000]
TA-W | Subject firm (petitioners) | Location | Date of petition | Product(s)
37,548 | Reo Plating, Inc. (Co.) | Providence, RI | 03/02/2000 | Electro Plating of Jewelry.
37,54 9 | Labeling Systems, Inc. (Co.) | Oakland, NJ | 03/20/2000 | Pressure Sensitive Labeling Machines.
37,550 | Lermer Aircraft Galley (Co.) | Eatontown, NJ | 03/25/2000 | Food Service Carts.
37,551 | PDH d/b/a Omnigrid, Inc. (Co.) | Burlington, WA | 03/24/2000 | Quilting Rulers and Mats.
37,552 | Willamette Ind., Inc. (Wkrs) | Dallas, OR | 03/21/2000 | Plywood.
37,553 | Swanic, Inc. (Wkrs) | Attleboro, MA | 03/23/2000 | Custome Jewelry.
37,554 | Ross Corp. (Co.) | Eugene, OR | 03/25/2000 | Heavy Logging Equipment.
37,555 | Alrose Shoe/Ballet Makers (Co.) | Exeter, NH | 03/28/2000 | Dance Shoes.
37,556 | Cintas #765 (Wkrs) | Stevenson, AL | 03/25/2000 | Ladies' and Men's Shirts and Pants.
37,557 | Touch of Lace (Wkrs) | Fairview, NJ | 03/24/2000 | Embroider.
37,558 | Exide Corp. (Co.) | Reading, PA | 03/20/2000 | Lead Acid Batteries.
37,559 | Anchor Laming America (Wkrs) | Cheshire, CT | 03/02/2000 | Die Sets, Blanchard Grand Plate.
37,560 | Honeywell, Inc. (USWA) | Ironton, OH | 03/29/2000 | Coal Tar Products.
37,561 | Manpower Agency (Wkrs) | San Jose, CA | 03/09/2000 | Disk Drives, Storage at IBM.
37,562 | Beloit Corp. (Co.) | Beloit, WI | 03/27/2000 | Sells and Services Paper Machinery Equip.
37,563 | Tecumseh Products Co. (Wkrs) | Somerset, KY | 03/10/2000 | Refrigeration Compressors.
37,564 | American Camper (Co.) | St. George, UT | 03/28/2000 | Sleeping Bags.
37,565 | Philips Components (Co.) | Saugerties, NY | 03/20/2000 | Yoke Rings.

[FR Doc. 00-11115 Filed 5-3-00; 8:45 am]

BILLING CODE 4510-30-M